SELECTIVE SERVICE SYSTEM

Privacy Act; System of Records

AGENCY: Selective Service System.

ACTION: Notice; Electronic Content Management (ECM) System of Records.

SUMMARY: Pursuant to the provisions of the Privacy Act of 1974, as amended, the Selective Service System (SSS) is issuing a public notice of its intent to create a Privacy Act System of Records titled, “Enterprise Content Management System”. This System of Records notice (SORN) describes the platform that will manage the document workflow and processing automation of the SSS. The focus of the system is to enable document capture, OCR (where applicable), access, visibility and routing for status & completion, document archiving and destruction, and retrieval based upon the document type and workflow required. These data services include data file storage and processing as well as input from a variety of electronic and paper sources. The ECM includes hardware, software applications, data, communications, and personnel. This newly established system will be included in the SSS inventory of record systems.

DATES: Please submit comments on or before 30 days after the date of publication in the Federal Register. This new system is effective upon publication in today's Federal Register, with the exception of the routine uses, which are effective 30 days after date of publication in the Federal Register.

ADDRESSES: Written comments and recommendations should be sent to Jeff.Steinlage@sss.gov or to the Selective Service System, Mr. Jeffrey Steinlage, Acting Chief Information Officer, 1501 Wilson Boulevard, Arlington, Virginia 22209-2425. A copy of the comments should be sent to the Office of Information and Regulatory Affairs, Attention: Desk Officer, Selective Service System, Office of Management and Budget, New Executive Office Building, Room 3235, Washington, DC 20503.

FOR FURTHER INFORMATION CONTACT: Mr. Jeffrey Steinlage, Acting Chief Information Officer, Office of Information Technology, Selective Service System, 571-867-8044, 1501 Wilson Boulevard, Arlington, Virginia 22209-2425.

SUPPLEMENTARY INFORMATION: ECM supports one of the main essential functions of SSS by registering and maintaining a database of males between the ages of 18 and 25 who are citizens or residents of the United States. Additionally, the system supports the essential business function of Selective Service, when directed by Congress and the President, to respond to a DoD request for inductees within 193 days. A report on this new system has been sent to OMB, the Chairman, Committee on Government Reform and Oversight, U.S. House of Representatives; and Chairman, Committee on Homeland Security and Governmental Affairs, United States Senate as required by the Privacy Act. If changes are made based on the SSS review of comments received, the SSS will publish a subsequent notice.

This system of records is maintained by the SSS and contains personal information about individuals from which information is retrieved by an individual's name or identifier. The notice for this System of Records states the name and location of the record system, the authority for and manner of its operation, the categories of individuals that it covers, the types of records that it contains, the sources of information in those records, and the routine uses. This notice also includes the business address of the SSS official who will inform interested persons of the procedures whereby they may gain access to and request amendment of records pertaining to them. The Privacy Act provides certain safeguards for an individual against an invasion of personal privacy by requiring Federal agencies to protect records contained in an agency System of Records from unauthorized disclosure and to ensure that information is current and accurate for its intended use and that adequate safeguards are provided to prevent misuse of such information. “Section 3 of the Military Selective Service Act, as amended [50 U.S.C. 3802], provides that male citizens of the United States and other male persons residing in the United States who are between the ages of 18 and 26, except those exempted by Sections 3 and 6(a) of the Military Selective Service Act, must present themselves for registration at such time or times and place or places, in such manner as determined by the President.”—Proclamation 4771 as amended by Proclamation 7275.

Authority: 50 U.S.C. 3801 et seq. [Military Selective Service Act (MSSA)]

SYSTEM NUMBER:

SSS-50.

System Name:

Enterprise Content Management System (ECM).

Security Classification:

None.

System Location:

Selective Service System, Data Management Center, 2834 Green Bay Rd., Building 3400, Great Lakes, Illinois 60088.

System Manager(s) and Address:

Mr. Matthew Adams, Data Management Center (DMC-A), Selective Service System, P.O. Box 94638, Palatine, IL 60094-4638.

Authority for Maintenance of the System:

50 U.S.C. 3801 et seq. [Military Selective Service Act (MSSA)]

Purpose(s) of the System:

ECM is to enable document capture, OCR (where applicable), access, visibility and routing for status & completion, document archiving and destruction, and retrieval based upon the document type and workflow required. These data services include data file storage and processing as well as input from a variety of electronic and paper sources.

Categories of Individuals Covered by the System:

The system collects any correspondence from any person sent to the Selective Service System by mail to the designated PO boxes, emails to designated email addresses, and/or by filling out a set of web-enabled forms published on sss.gov website.

Categories of Records in the System:

The system will collect the following types of documents:

Paper-based correspondence (scanned into the system):

Registration Form SSS Form 1

Status Information Letter (SIL)

Change of Name of Address SSS Form 2

Compliance Letter (Form 3C)

General Correspondence

Legacy Scanned Documents Electronic Correspondence:

Online SSS-Form 1

Online SSS-Form 2

Online SSS-SIL

Online SS-Form 3C

Internal Data Entry Form (AQ Form)

Email

Record Source Categories:

Mail

Email

Legacy Scanned documents

Website

AQ internal form (based on phone conversation)

Routine Uses of Records Maintained in the System, Including Categories of Users and the Purposes of Such Uses:

The system will be routinely used by the authorized personnel to scan documents, perform data entry of the metadata, validate and update metadata when needed, and search and retrieve records based on the operational needs. The public users will interface with the system by utilizing the data entry forms published on the sss.gov website. Thus, the categories of users are:

System Administrators—administer and maintain the system and users' access controls

Regular users—perform normal functions within the system such as data entry, data corrections, processing the items in designated workflows, etc.

Managers—have ability of oversee actions of the assigned employees

Public users—enter information through online forms at sss.gov

Policies and Practices for Storage of Records:

All records in this System of Records are maintained and in compliance with applicable executive orders, statutes, and agency implementing recommendations. Electronic records are stored in databases and application servers. SSS has ITSP-64 for Media Protection which establishes a uniform process for protecting and storing PII and media.

Policies and Practices for Retrieval of Records:

SSS is utilizing a Full-Text Search function, for internal users only, of the ECM system that provides a simple, unified interface for retrieving stored textual information retrieved from the documents. Advanced searches can be performed based on keywords and phrases that exist within documents to locate relevant content. The following are the common search criteria:

Selective Service Number (SSN)

Social Security Number (SSAN)

Compliance PIN

Document Handling Number

Name (Last, First, or combination)

Policies and Practices for Retention and Disposal of Records:

Currently, there is no policy established to retain the records for a set period of time. This SORN will be updated once the policy is established.

Administrative, Technical, and Physical Safeguards:

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, multi-factor authentication, database permissions, encryption, firewalls, audit logs, network system security monitoring, and software controls; ITSP-17 Physical and Environmental Protection Policy and Procedures.

Record Access Procedures:

Same as “Notification procedures.”

Contesting Record Procedures:

Same as “Notification procedures.”

Notification Procedures:

The public should follow the process described in the Code Of Federal Regulations (CFR), Title 32 Subtitle B Chapter XVI Part 1665 “PRIVACY ACT PROCEDURES” at https://www.ecfr.gov/current/title-32/subtitle-B/chapter-XVI/part-1665 For the general inquiries, public can contact the agency at numbers published under https://www.sss.gov/contact/, or call 847-688-6888 or toll-free: 888-655-1825.

Exemptions Promulgated for the System:

None.

History:

None.

Daniel A. Lauretano,
General Counsel & Federal Register Liaison.

[FR Doc. 2025-07223 Filed 4-25-25; 8:45 am]

BILLING CODE 8015-01-P